DEPARTMENT OF DEFENSE

Office of the Secretary

Submission for OMB Review; Comment Request

ACTION: Notice.

The Department of Defense has submitted to OMB for clearance, the following proposal for collection of information under the provisions of the Paperwork Reduction Act (44 U.S.C. Chapter 35).

Title and OMB Number: Defense Systems Management College (DSMC) Information Technology Study; OMB Number 0704—[To Be Determined].

Type of Request: New Collection.

Number of Respondents: 1,000.

Responses per Respondent: 1.

Annual Responses: 1,000.

Average Burden per Response: 2.5 hours.

Annual Burden Hours: 2,500.

Needs and Uses: The collection of information is needed to characterize the personality characteristics, behaviors, and workplace climate needs common among Information Technology specialists. The results from the analysis of these data will be used to determine the management practices most effective for working with these specialists and to develop management curricula based upon these findings. Respondents are information technology professionals from approximately 300 companies within the U.S. The goal of this effort is to use this information to form the basis for a new Software Best Management Practices, to be encapsulated into the Defense Systems Management College curriculum, as well as that of the Defense University's Chief of Information Officers and civilian programs.

Affected Public: Business or Other For-Profit; Non-For-Profit Institutions.

Frequency: On Occasion.

Respondent's Obligation: Voluntary.

OMB Desk Officer: Mr. Edwad C. Springer.

Written comments and recommendations on the proposed information collection should be sent jto Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: October 17, 2000.
Patricia L. Toppings,
Alternate OSD Federal Register Liaison Officer, Department of Defense.

[FR Doc. 00-27196 Filed 10-23-00; 8:45 am]

BILLING CODE 5001-10-M